DEPARTMENT OF ENERGY

Federal Energy Regulatory Commission

[Docket No. EL03-208-000]

Vermont Public Power Supply Authority, Complainant, v. PG&E Energy Trading—Power, L.P. and PG&E National Energy Group, Inc., Respondents; Notice of Filing

July 7, 2003.

Take notice that on July 3, 2003, the Vermont Public Power Supply Authority (VPPSA) tendered for filing with the Federal Energy Regulatory Commission (Commission) pursuant to Rule 206 of the Commission's Rules of Practice and Procedure, 18 CFR 385.206, a Complaint Requesting Fast Track Processing. VPPSA filed the Complaint against PG&E Energy Trading—Power, L.P. (PGET) and PG&E National Energy Group, Inc., and states that PGET has suspended its provision of jurisdictional service to VPPSA. VPPSA asks FERC to utilize fast track processing and to order PGET to resume service to it under the terms and conditions of existing contracts. VPPSA seeks fast track relief on the grounds that it must make arrangements to replace power and energy that PGET is now refusing to supply.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: July 17, 2003.

Magalie R. Salas,
Secretary.

[FR Doc. 03-17659 Filed 7-11-03; 8:45 am]

BILLING CODE 6717-01-P